DEPARTMENT OF COMMERCE

Foreign-Trade Zones Board

[B-12-2026]

Foreign-Trade Zone (FTZ) 204, Notification of Proposed Production Activity; Eastman Chemical Company; (Cellulose Acetate Fibers); Kingsport, Tennessee

Eastman Chemical Company submitted a notification of proposed production activity to the FTZ Board (the Board) for its facility in Kingsport, Tennessee within Subzone 204B. The notification conforming to the requirements of the Board's regulations (15 CFR 400.22) was received on January 29, 2026.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished products and component would be added to the production authority that the Board previously approved for the operation, as reflected on the Board's website.

The proposed finished products include: Fiber Ester Flake; Filament Yarn; Filter Tow; and Staple Fiber (duty rate ranges from 4.3% to 8.8%).

The proposed foreign-status materials/components include: High Purity Dissolving Pulp (duty free).

The request indicates that certain materials/components are subject to duties under section 1702(a)(1)(B) of the International Emergency Economic Powers Act (section 1702) or section 301 of the Trade Act of 1974 (section 301), depending on the country of origin. The applicable section 1702 and section 301 decisions require subject merchandise to be admitted to FTZs in privileged foreign status (19 CFR 146.41). The request also indicates that High Purity Dissolving Pulp is subject to an antidumping/countervailing duty (AD/CVD) order/investigation if imported from certain countries. The Board's regulations (15 CFR 400.13(c)(2)) require that merchandise subject to AD/CVD orders, or items which would be otherwise subject to suspension of liquidation under AD/CVD procedures if they entered U.S. customs territory, be admitted to the zone in privileged foreign status (19 CFR 146.41).

Public comment is invited from interested parties. Submissions shall be addressed to the Board's Executive Secretary and sent to: ftz@trade.gov. The closing period for their receipt is March 18, 2026.

A copy of the notification will be available for public inspection in the “Online FTZ Information System” section of the Board's website.

For further information, contact John Frye at john.frye@trade.gov.

Dated: January 30, 2026.
Elizabeth Whiteman,
Executive Secretary.

[FR Doc. 2026-02355 Filed 2-5-26; 8:45 am]

BILLING CODE 3510-DS-P